DEPARTMENT OF DEFENSE

GENERAL SERVICES ADMINISTRATION

NATIONAL AERONAUTICS AND SPACE ADMINISTRATION

48 CFR Chapter 1

[Docket No. FAR-2019-0001, Sequence No. 6]

Federal Acquisition Regulation; Federal Acquisition Circular 2020-01; Introduction

AGENCY: Department of Defense (DoD), General Services Administration (GSA), and National Aeronautics and Space Administration (NASA).

ACTION: Summary presentation of a final rule.

SUMMARY: This document summarizes the Federal Acquisition Regulation (FAR) rule agreed to by the Civilian Agency Acquisition Council and the Defense Acquisition Regulations Council (Councils) in this Federal Acquisition Circular (FAC) 2020-01. A companion document, the Small Entity Compliance Guide (SECG), follows this FAC. The FAC, including the SECG, is available via the internet at http://www.regulations.gov.

DATES: For effective date see the separate document, which follows.

FOR FURTHER INFORMATION CONTACT: Ms. Zenaida Delgado, Procurement Analyst, at 202-969-7207 or zenaida.delgado@gsa.gov for clarification of content. For information pertaining to status or publication schedules, contact the Regulatory Secretariat Division at 202-501-4755. Please cite FAC 2020-01, FAR Case 2018-008.

Rule Listed in FAC 2020-01
Subject | FAR Case | Analyst
Definition of “Commercial Item” | 2018-008 | Delgado.

SUPPLEMENTARY INFORMATION: A summary for the FAR rule follows. For the actual revisions and/or amendments made by this FAR case, refer to the specific subject set forth in the document following this item summary. FAC 2020-01 amends the FAR as follows:

Definition of “Commercial Item” (FAR Case 2018-008)

This final rule amends the definition of “commercial item” in FAR part 2 to reflect the statutory change made by section 847 of the National Defense Authorization Act for Fiscal Year 2018. Section 847 expands the universe of nondevelopmental items that qualify as commercial items to include items sold, in substantial quantities on a competitive basis, to multiple foreign governments.

This final rule will not have a significant economic impact on a substantial number of small entities.

William F. Clark,
Director, Office of Government-wide Acquisition Policy, Office of Acquisition Policy, Office of Government-wide Policy.

Federal Acquisition Circular (FAC) 2020-01 is issued under the authority of the Secretary of Defense, the Administrator of General Services, and the Administrator of National Aeronautics and Space Administration.

Unless otherwise specified, all Federal Acquisition Regulation (FAR) and other directive material contained in FAC 2020-01 is effective October 10, 2019 except for FAR Case 2018-008, which is effective November 12, 2019.

Kim Herrington,
Acting Principal Director, Defense Pricing and Contracting, Department of Defense.
Jeffrey A. Koses,
Senior Procurement Executive/Deputy CAO, Office of Acquisition Policy, U.S. General Services Administration.
William G. Roets, II,
Acting Assistant Administrator, Office of Procurement, National Aeronautics and Space Administration.

[FR Doc. 2019-21846 Filed 10-9-19; 8:45 am]

BILLING CODE 6820-EP-P